SMALL BUSINESS ADMINISTRATION

Senior Executive Service and Senior Level: Performance Review Board Members

AGENCY: U.S. Small Business Administration.

ACTION: Notice of appointees to the Performance Review Board.

SUMMARY: Agencies are required to publish notification of the appointment of individuals who may serve as members of that agency's Performance Review Board (PRB). The following individuals have been designated to serve on the PRB for the U.S. Small Business Administration.

Members

1. Victor Parker (Chair), Deputy Associate Administrator, Office of Field Operations

2. Christina Hale, Assistant Administrator, Office of Women's Business Ownership, Office of Entrepreneurial Development

3. Claire Ehmann, Deputy Associate Administrator, Office of International Trade

4. George Holman, Associate Administrator, Office of Congressional and Legislative Affairs

5. John Miller, Deputy Associate Administrator, Office of Capital Access

6. Yvette T. Collazo Reyes, Deputy Associate Administrator, Office of Entrepreneurial Development

Authority: 5 U.S.C. 4314(c)(4).

Isabella Casillas Guzman,
Administrator.

[FR Doc. 2023-23973 Filed 10-30-23; 8:45 am]

BILLING CODE P